DEPARTMENT OF DEFENSE

OFFICE OF PERSONNEL MANAGEMENT

5 CFR Chapter XCIX

RIN 3206-AM 53

National Security Personnel System

AGENCY: Department of Defense; Office of Personnel Management.

ACTION: Final rule.

SUMMARY: This final rule removes the Department of Defense and Office of Personnel Management regulations concerning the National Security Personnel System (NSPS). Section 1113 of the National Defense Authorization Act for Fiscal Year 2010 repealed the legal authority for NSPS and provided that any existing NSPS regulations would cease to be effective on January 1, 2012.

DATES: Effective January 1, 2012.

FOR FURTHER INFORMATION CONTACT: Paula Shipe, (703) 696-5376.

SUPPLEMENTARY INFORMATION: Section 1101 of Public Law 108-36 (November 24, 2003) codified at 5 U.S.C. 9902, gave the Department of Defense (DOD) authority to establish a National Security Personnel System (NSPS) in regulations jointly prescribed by DOD and OPM (Office of Personnel Management). The original regulations were issued on November 1, 2005 (70 FR 66116).

The NSPS law was subsequently amended by section 1106 of Public Law 110-181 (January 28, 2008) and section 1106 of Public Law 110-417 (October 14, 2008). These amendments resulted in revised DOD/OPM regulations, which were issued on September 26, 2008 (73 FR 56344) and January 16, 2009 (74 FR 2757).

Section 1113 of the National Defense Authorization Act for Fiscal Year 2010, Public Law 111-84, October 28, 2009, repealed the legal authority for NSPS and provided that any existing NSPS regulations would cease to be effective on January 1, 2012. Accordingly, we are removing the NSPS regulations found in chapter XCIX of title 5 of the Code of Federal Regulations effective on January 1, 2012.

Office of Personnel Management.
John Berry,
Director, Office of Personnel Management, Department of Defense.
Jo Ann Rooney,
Under Secretary of Defense for Personnel and Readiness.

CHAPTER XCIX—[REMOVED]

Accordingly, by the authority of section 1113(b) of Public Law 111-84, the Department of Defense and the Office of Personnel Management are amending title 5 of the Code of Federal Regulations by removing chapter XCIX (consisting of part 9901).

[FR Doc. 2011-33235 Filed 12-27-11; 8:45 am]

BILLING CODE 6325-39-P